ENVIRONMENTAL PROTECTION AGENCY

40 CFR Parts 52, 60, 61 and 62

[MT-001-0018b, MT-001-0019b, MT-001-0020b, MT-001-0022b,MT-001-0023b; MT-001-0031b; FRL-6994-8]

Approval and Promulgation of Air Quality Implementation Plans; Montana

AGENCY: Environmental Protection Agency (EPA).

ACTION: Proposed rule.

SUMMARY: EPA is proposing to take direct final action partially approving and partially disapproving State Implementation Plan (SIP) revisions submitted by the Governor of Montana, on September 19, 1997, December 10, 1997, April 14, 1999, December 6, 1999 and March 3, 2000. These revisions recodify and modify the State's air quality rules so that they are consistent with Federal requirements, minimize repetition in the air quality rules, and clarify existing provisions. In addition, we are also approving into the SIP Yellowstone County's Local Regulation No.002—Open Burning. Finally, we are also announcing that we delegated the authority for the implementation and enforcement of the New Source Performance Standards (NSPS) to the State. EPA is either not acting on or disapproving certain provisions of the State's air quality rules that should not be in the SIP because they are not generally related to attainment of the National Ambient Air Quality Standards (NAAQS) or they are inconsistent with our SIP requirements. Finally, some provisions of the rules will be acted on at a later date. This action is being taken under section 110 and 111 of the Clean Air Act. In the “Rules and Regulations” section of this Federal Register, EPA is approving the State's SIP revision as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

DATES: Comments must be received in writing on or before July 16, 2001.

ADDRESSES: Written comments may be mailed to Richard R. Long, Director, Air and Radiation Program, Mailcode 8P-AR, Environmental Protection Agency (EPA), Region VIII, 999 18th Street, Suite 300, Denver, Colorado, 80202. Copies of the documents relevant to this action are available for public inspection during normal business hours at the Air and Radiation Program, Environmental Protection Agency, Region VIII, 999 18th Street, Suite 300, Denver, Colorado, 80202. Copies of the State documents relevant to this action are available for public inspection at the Montana Department of Environmental Quality, Air and Waste Management Bureau, 1520 E. 6th Avenue, Helena, Montana 59620

FOR FURTHER INFORMATION CONTACT: Laurie Ostrand, EPA Region 8, (303) 312-6437.

SUPPLEMENTARY INFORMATION: See the information provided in the Direct Final action of the same title which is located in the Rules and Regulations section of this Federal Register.

Authority: 42 U.S.C. 7401 et seq.

Dated: May 16, 2001.
Jack W. McGraw,
Acting Regional Administrator,Region VIII.

[FR Doc. 01-15028 Filed 6-14-01; 8:45 am]

BILLING CODE 6560-50-P